DEPARTMENT OF THE INTERIOR

Bureau of Land Management

[LLCOF0200-L12200000-DU0000]

Notice of Proposed Supplementary Rules for Public Lands in Colorado: Public Lands Administered by the Bureau of Land Management, Royal Gorge Field Office, Arkansas River Travel Management Area in Chaffee, Custer, and Fremont Counties, CO

AGENCY: Bureau of Land Management, Interior.

ACTION: Notice of proposed supplementary rules.

SUMMARY: The Bureau of Land Management (BLM) in Colorado is proposing supplementary rules for public lands included in the Arkansas River Travel Management Area in Chaffee, Custer, and Fremont Counties, Colorado. These rules would implement several decisions from the Arkansas River Travel Management Plan (TMP), approved May 21, 2008. The proposed supplementary rules address off-road vehicle use, mountain bike use, and recreational target shooting.

DATES: Please send comments to the following address by September 21, 2010. Comments received or postmarked after this date may not be considered in the development of the final supplementary rules.

ADDRESSES: Please mail comments to Leah Quesenberry, BLM Royal Gorge Field Office, 3028 East Main Street, Cañon City, Colorado 81212, or e-mail comments to rgfo_comments@blm.gov and include “Proposed Supplementary Rules” in the subject line.

FOR FURTHER INFORMATION CONTACT: Leah Quesenberry, Royal Gorge Field Office, (719) 269-8500, e-mail leah_quesenberry@blm.gov.

SUPPLEMENTARY INFORMATION:

I. Public Comment Procedures

You may mail or hand-deliver comments to Leah Quesenberry, BLM Royal Gorge Field Office, 3028 East Main Street, Cañon City, Colorado 81212, or e-mail comments to rgfo_comments@blm.gov and include “Proposed Supplementary Rules” in the subject line. Written comments on the proposed supplementary rules should be specific, be confined to issues pertinent to the proposed supplementary rules, and explain the reason for any recommended change. Where possible, comments should reference the specific section or paragraph of the rules that the comment is addressing. The BLM is not obligated to consider or include in the Administrative Record for the supplementary rules comments that the BLM receives after the close of the comment period (see DATES), unless they are postmarked or electronically dated before the deadline, or comments delivered to an address other than the address listed above (see ADDRESSES).

Comments, including names, street addresses, and other contact information of respondents, will be available for public review at the BLM Royal Gorge Field Office, 3028 East Main Street, Cañon City, Colorado 81212, during regular business hours (7:30 a.m. to 3:45 p.m., Monday through Friday, except Federal holidays). Before including your address, phone number, e-mail address, or other personal identifying information in your comment, you should be aware that your entire comment—including your personal identifying information—may be made publicly available at any time. While you can ask us in your comment to withhold your personal identifying information from public review, we cannot guarantee that we will be able to do so.

II. Background

A “Notice of Intent to Prepare the Arkansas River TMP and Amend the Royal Gorge Resource Management Plan” was published in the Federal Register on June 9, 2003 (68 FR 34417). The completion of the Arkansas River TMP Environmental Assessment (EA) began a 45-day public comment period on June 19, 2007. Following analysis of the public comments, a decision on the Arkansas River TMP was issued on May 21, 2008. These proposed supplementary rules would allow the BLM to increase law enforcement efforts focused on mitigating damage to natural resources and provide for public health and safety.

III. Discussion of Proposed Supplementary Rules

Under the authority of 43 U.S.C. 1733(a) and 43 CFR 8365.1-6, these proposed supplementary rules would implement certain decisions from the Arkansas River TMP that enhance public safety; protect natural and cultural resources; eliminate motorized and non-motorized impacts on sensitive species habitat; and reduce conflicts among public land users.

The Arkansas River Travel Management Area covers public lands located within Chaffee, Custer, and Fremont Counties, Colorado.

New Mexico Principal Meridian, Colorado

Tps. 49 thru 51 N., R. 8 E.

Tps. 48 thru 50 N., R. 9 E.

Tps. 47 thru 49 N., R. 10 E.

Tps. 47 thru 49 N., R. 11 E.

Tps. 47 thru 49 N., R. 12 E.

Sixth Principal Meridian, Colorado

Tps. 18 and 19 S., R. 70 W.

Tps. 18 thru 22 S., R. 71 W.

Tps. 17 thru 22 S., R. 72 W.

Tps. 17 thru 22 S., R. 73 W.

Containing 240,555 acres of public land, more or less.

IV. Procedural Matters

Executive Order 12866, Regulatory Planning and Review

These supplementary rules are not a significant regulatory action and are not subject to review by Office of Management and Budget under Executive Order 12866. These rules will not have an effect of $100 million or more on the economy. These rules will not adversely affect in a material way the economy, productivity, competition, jobs, the environment, public health or safety, or state, local, or tribal governments or communities. These rules will not create a serious inconsistency or otherwise interfere with an action taken or planned by another agency. These rules do not materially alter the budgetary effects of entitlements, grants, user fees, or loan programs, or the rights or obligations of their recipients; nor do they raise novel legal or policy issues. These supplementary rules will not affect legal commercial activity, but merely impose limitations on certain recreational activities on certain public lands to protect natural resources and human health and safety.

Clarity of the Supplementary Rules

Executive Order 12866 requires each agency to write regulations that are simple and easy to understand. In addition to written comments requested on substantive issues pertinent to the proposed supplementary rules, we invite comments on how to make these supplementary rules easier to understand, including answers to questions such as the following:

(1) Are the requirements in the proposed supplementary rules clearly stated?

(2) Do the proposed supplementary rules contain technical language or jargon that interferes with their clarity?

(3) Does the format of the proposed supplementary rules (grouping and order of sections, use of headings, paragraphing, etc.) aid or reduce its clarity?

(4) Would the proposed supplementary rules be easier to understand if they were divided into more (but shorter) sections?

(5) Is the description of the proposed supplementary rules in the “Discussion of Proposed Supplementary Rules” section of this preamble helpful in understanding these proposed supplementary rules? How could this description be more helpful in making the proposed supplementary rules easier to understand?

Please send any comments you have on the clarity of the proposed supplementary rules to the address specified in the ADDRESSES section.

National Environmental Policy Act

The BLM prepared an EA (CO-200-2006-0086EA) in support of the Arkansas River TMP, including the decisions set forth in these supplementary rules and found that the plan decisions would not constitute a major Federal action significantly affecting the quality of the human environment under section 102(2)(C) of the National Environmental Policy Act, 42 U.S.C. 4332(2)(C). The BLM has placed the EA, Finding of No Significant Impact, and Decision Record on file in the BLM Administrative Record at the address specified in the ADDRESSES section.

Regulatory Flexibility Act

Congress enacted the Regulatory Flexibility Act of 1980 (RFA), as amended, 5 U.S.C. 601-612, to ensure that Government regulations do not unnecessarily or disproportionately burden small entities. The RFA requires a regulatory flexibility analysis if a rule would have a significant economic impact, either detrimental or beneficial, on a substantial number of small entities. These rules should have no effect on business entities of any size. These rules would merely impose reasonable restrictions on certain recreational activities on certain public lands to protect natural resources and the environment and human health and safety. Therefore, the BLM has determined under the RFA that these rules would not have a significant economic impact on a substantial number of small entities.

Small Business Regulatory Enforcement Fairness Act

These supplementary rules are not a “major rule” as defined at 5 U.S.C. 804(2). These rules would merely impose reasonable restrictions on certain recreational activities on certain public lands to protect natural resources and the environment and human health and safety. These rules would not:

(1) Have an annual effect on the economy of $100 million or more;

(2) Cause a major increase in costs or prices for consumers, individual industries, Federal, State, or local agencies, or geographic regions; or

(3) Have significant adverse effects on competition, employment, investment, productivity, innovation, or on the ability of United States-based enterprises to compete with foreign-based enterprises in domestic and export markets.

Unfunded Mandates Reform Act

These supplementary rules do not impose an unfunded mandate on State, local, or tribal governments, or the private sector of more than $100 million per year; nor do these supplementary rules have a significant or unique effect on State, local, or tribal governments or the private sector. These supplementary rules have no effect on State, local, or tribal governments and do not impose any requirements on any of these entities.

They would merely impose reasonable restrictions on certain recreational activities on certain public lands to protect natural resources and the environment and human health and safety. Therefore, the BLM is not required to prepare a statement containing the information required by the Unfunded Mandates Reform Act (2 U.S.C. 1531 et seq.).

Executive Order 12630, Governmental Actions and Interference With Constitutionally Protected Property Rights (Takings)

These supplementary rules do not represent a government action capable of interfering with constitutionally protected property rights. The supplementary rules do not address property rights in any form, and do not cause the impairment of one's property rights. Therefore, the BLM has determined that these rules would not cause a “taking” of private property or require further discussion of takings implications under this Executive Order.

Executive Order 13132, Federalism

The supplementary rules will not have a substantial direct effect on the states, on the relationship between the national government and the states, or on the distribution of power and responsibilities among the various levels of government. These supplementary rules do not conflict with any Colorado State law or regulation and government vehicles are expressly excluded from the effect of the vehicle restrictions. The shooting restrictions in these supplementary rules do not apply to hunting with a state hunting license. Therefore, in accordance with Executive Order 13132, the BLM has determined that these rules do not have sufficient Federalism implications to warrant preparation of a Federalism Assessment.

Executive Order 12988, Civil Justice Reform

Under Executive Order 12988, the BLM Colorado State Office has determined that these rules would not unduly burden the judicial system and that they meet the requirements of sections 3(a) and 3(b) (2) of the Order.

Executive Order 13175, Consultation and Coordination With Indian Tribal Governments

In accordance with Executive Order 13175, the BLM found that these supplementary rules do not include policies that have tribal implications because tribal lands and resources would not be impacted by these supplementary rules. However, formal consultation with 16 tribes was completed for the Arkansas River TMP.

Information Quality Act

In developing these supplementary rules, we did not conduct or use a study, experiment or survey requiring peer review under the Information Quality Act (section 515 of Pub. L. 106-554).

Executive Order 13211, Actions Concerning Regulations That Significantly Affect Energy Supply, Distribution, or Use

These supplementary rules do not comprise a significant energy action. These rules will not have an adverse effect on energy supply, production, or consumption and have no connection with energy policy.

Executive Order 13352, Facilitation of Cooperative Conservation

In accordance with Executive Order 13352, the BLM has determined that the supplementary rules will not impede facilitating cooperative conservation; will take appropriate account of and consider the interests of persons with ownership or other legally recognized interests in land or other natural resources; properly accommodate local participation in the Federal decision-making process; and provide that the programs, projects, and activities are consistent with protecting public health and safety. These rules merely establish rules of conduct for recreational use of certain public lands.

Paperwork Reduction Act

These supplementary rules do not contain information collection requirements that the Office of Management and Budget must approve under the Paperwork Reduction Act of 1995, 44 U.S.C. 3501, et seq.

Author

The principal author of these proposed supplementary rules is Leah Quesenberry, Renewable Resources Staff Supervisor, BLM, Royal Gorge Field Office.

For the reasons stated in the Preamble, and under the authority of 43 U.S.C. 1733(a) and 43 CFR 8365.1-6, the BLM proposes to issue supplementary rules for the public lands within the Arkansas River TMP area, Colorado, to read as follows:

Supplementary Rules for the Arkansas River Travel Management Plan Area

1. You must not operate a motor vehicle more than 100 feet in any direction off a designated road in the Arkansas River Travel Management Plan (TMP) area.

2. You must not ride mountain bicycles other than on roads and trails designated open to mountain bicycles by a Bureau of Land Management (BLM) sign or map in the Arkansas River TMP area.

3. You must not engage in recreational target shooting on public lands in the Methodist Mountain area south of Salida (2,314 acres) and the Turkey Rock area near Howard (361 acres), which are identified as closed to recreational target shooting by a BLM sign or map.

4. You may not operate a motorized vehicle within the area known as Turkey Rock (52 acres) unless it is a motorcycle specifically designed for observed trials riding, including rear wheel drive and universal trial tires with a width that does not exceed a 4.00 inch cross-section.

Exceptions

These supplementary rules do not apply to emergency, law enforcement, and Federal or other government vehicles while being used for official or other emergency purposes, or to any other vehicle use that is expressly authorized or otherwise officially approved by the BLM. The prohibition of target shooting in Rule 3 has no effect on hunting by licensed hunters in legitimate pursuit of game during the proper season with appropriate firearms, as defined by the Colorado Division of Wildlife.

Penalties

On public lands under section 303(a) of the Federal Land Policy and Management Act of 1976 (43 U.S.C. 1733(a) and 43 CFR 8360.0-7), any person who violates any of these supplementary rules may be tried before a United States Magistrate and fined no more than $1,000 or imprisoned for no more than 12 months, or both. Such violations may also be subject to the enhanced fines provided for by 18 U.S.C. 3571.

Helen M. Hankins,
Colorado State Director.

[FR Doc. 2010-18051 Filed 7-22-10; 8:45 am]

BILLING CODE 4310-JB-P